DEPARTMENT OF THE INTERIOR

National Park Service

[NPS-WASO-NAGPRA-NPS0028905; PPWOCRADN0-PCU00RP14.R50000]

Notice of Inventory Completion: U.S. Army Corps of Engineers, Omaha District, Omaha, NE, and South Dakota State Archaeological Research Center, Rapid City, SD

AGENCY: National Park Service, Interior.

ACTION: Notice.

SUMMARY: The U.S. Army Corps of Engineers, Omaha District (USACE, Omaha District) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the USACE Omaha District. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the USACE Omaha District at the address in this notice by November 8, 2019.

ADDRESSES: Ms. Sandra Barnum, U.S. Army Corps of Engineers, Omaha District, ATTN: CENWO-PMA-C, 1616 Capital Avenue, Omaha, NE 68102, telephone (402) 995-2674, email sandra.v.barnum@usace.army.mil.

SUPPLEMENTARY INFORMATION: Notice is hereby given in accordance with the Native American Graves Protection and Repatriation Act (NAGPRA), 25 U.S.C. 3003, of the completion of an inventory of human remains and associated funerary objects under the control of the U.S. Army Corps of Engineers, Omaha District, Omaha, NE, and in the physical custody of the South Dakota State Archaeological Research Center, Rapid City, SD. The human remains and associated funerary objects were removed from sites 39BF0004 and 39BF0205/0206 in Buffalo County, SD.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by South Dakota State Archaeological Research Center (SARC) and USACE Omaha District professional staff in consultation with representatives of the Crow Creek Sioux Tribe of the Crow Creek Reservation, South Dakota and the Yankton Sioux Tribe of South Dakota (hereafter referred to as “The Tribes”).

History and Description of the Remains

In 1983, human remains representing, at minimum, six individuals were removed from site 39BF0004 in Buffalo County, SD. The human remains were collected and stored by Larson-Tibesar Associates at the request of the U.S. Army Corps of Engineers. In 1987, the collection was moved to SARC, where they are currently housed. No known individuals were identified. The 39 associated funerary objects are one ceramic rim sherd, four ceramic body sherds, 13 flakes, three pieces of yellow ochre, 16 shell fragments, one faunal (bison) bone fragment, and one shell disk ornament.

In 1975, human remains representing, at minimum, one individual were removed from the vicinity of site 39BF0205/0206 in Buffalo County, SD. The human remains and funerary objects were discovered during a sewage line project and law enforcement was called. Crow Creek Tribal Law Enforcement Office and FBI collected the human remains and associated funerary objects. In 1982, the human remains and associated funerary objects were transferred to Steve Ruple, South Dakota State Historic Preservation Office. Ruple confirmed the human remains and associated funerary objects were from site 39BF0205/0206 on Army Corps of Engineers land and transferred the human remains and associated funerary objects to SARC. In February 2002, a human patella was found within the box of funerary objects at SARC. No known individual was identified. The 140 associated funerary objects are 110 ceramic body sherds, one lot of faunal (bison) bone fragments, two faunal (owl) bone fragments, five faunal (antelope) bone fragments, two faunal (dog) bone fragments, two faunal (deer) bone fragments, one faunal (prairie chicken) bone fragment, eight modified faunal (bison) bone fragments, one faunal bone (scapula) hoe, one lot of unidentified faunal bone fragments, one wedge, two lithic core shatter fragments, two unmodified rocks, one fire cracked rock, and one piece of chalcedony.

Determinations Made by the U.S. Army Corps of Engineers, Omaha District

Officials of the U.S. Army Corps of Engineers, Omaha District have determined that:

• Pursuant to 25 U.S.C. 3001(9), the human remains described in this notice are Native American based on archeological context, associated funerary objects, and morphological features of the human remains.

• Pursuant to 25 U.S.C. 3001(9), the human remains described in this notice represent the physical remains of seven individuals of Native American ancestry.

• Pursuant to 25 U.S.C. 3001(3)(A), the 179 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission, the land from which the Native American human remains and associated funerary objects were removed is the aboriginal land of the Yankton Sioux Tribe of South Dakota.

• Treaties and Executive Orders indicate that the land from which the Native American human remains and associated funerary objects were removed is the aboriginal land of the Crow Creek Sioux Tribe of the Crow Creek Reservation, South Dakota and the Yankton Sioux Tribe of South Dakota.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Ms. Sandra Barnum, U.S. Army Corps of Engineers, Omaha District, ATTN: CENWO-PMA-C, 1616 Capitol Avenue, Omaha, NE 68102, telephone (402) 995-2674, email sandra.v.barnum@usace.army.mil, by November 8, 2019. After that date, if no additional requestors have come forward, transfer of control of the human remains and associated funerary objects to The Tribes may proceed.

The U.S. Army Corps of Engineers, Omaha District is responsible for notifying The Tribes that this notice has been published.

Dated: September 13, 2019.
Melanie O'Brien,
Manager, National NAGPRA Program.

[FR Doc. 2019-22044 Filed 10-8-19; 8:45 am]

BILLING CODE 4312-52-P